DEPARTMENT OF TRANSPORTATION

Federal Aviation Administration

14 CFR Part 39

[Docket No. FAA-2013-0573; Directorate Identifier 2012-SW-042-AD; Amendment 39-17781; AD 2014-05-08]

RIN 2120-AA64

Airworthiness Directives; Airbus Helicopters (Type Certificate Previously Held by Eurocopter France) (Airbus Helicopters)

AGENCY: Federal Aviation Administration (FAA), DOT.

ACTION: Final rule.

SUMMARY: We are adopting a new airworthiness directive (AD) for certain Airbus Helicopters Model AS332L1 helicopters. This AD requires replacing the rivets on the left-hand (LH) and right-hand (RH) Y350 longitudinal beams (longitudinal beams Y350). This AD was prompted by a report that non-conforming rivets had been installed on an AS332 helicopter during a production modification. The actions of this AD are intended to prevent failure of the longitudinal beams Y350 and subsequent loss of control of the helicopter.

DATES: This AD is effective April 15, 2014.

The Director of the Federal Register approved the incorporation by reference of a certain document listed in this AD as of April 15, 2014.

ADDRESSES: For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On July 3, 2013 at 78 FR 40072, the Federal Register published our notice of proposed rulemaking (NPRM), which proposed to amend 14 CFR part 39 by adding an AD that would apply to certain serial-numbered Eurocopter (now Airbus Helicopters) Model AS332C1 and AS332L1 helicopters. The NPRM proposed to require replacing the non-conforming 3.2 mm rivets, part-number (P/N) 212 15DC 3200J, on the longitudinal beams Y350 with airworthy 4.8 mm rivets, P/N 212 15DC 4800J. The proposed requirements were intended to prevent failure of the longitudinal beams Y350 and subsequent loss of control of the helicopter.

The NPRM was prompted by AD No. 2012-0046-E, dated March 21, 2012 (EAD 2012-0046-E), issued by the European Aviation Safety Agency (EASA), which is the Technical Agent for the Member States of the European Union, to correct an unsafe condition for Model AS332C1 and AS332L1 helicopters. EASA advises that an AS332 helicopter was found on the production line with non-conforming rivets installed on the RH and LH longitudinal beams Y350 of the bottom structure of the fuselage, between sections X4780 and X5295. According to EASA, the investigation revealed that a limited number of helicopters were documented as receiving a production modification requiring the replacement of certain 3.2 mm rivets with 4.8 mm rivets, but the actual replacement of the rivets had not been performed. EASA states that this condition leads to significant reduction in the safety margins during sling operations and may cause failure of the web/flange assembly connections of the longitudinal beams Y350, possibly resulting in loss of control of the helicopter. For these reasons, EASA issued EAD 2012-0046-E, which, pending inspection of the helicopter beams Y350 and replacement of the affected rivets, prohibits sling operations or limits the 3-ton sling to external loads of 2.28 tons or less.

Since the NPRM was published, we have determined that the applicability requirements of the proposed AD should not apply to Model AS332C1 helicopters, because that model is not type certificated in the United States. We have removed that model and its corresponding serial numbers from this AD. Also, Eurocopter France has changed its name to Airbus Helicopters. This AD reflects that change and updates to contact information to obtain service information.

Comments

We gave the public the opportunity to participate in developing this AD, but we did not receive any comments on the NPRM (78 FR 40072, July 3, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed, except that we have removed Eurocopter Model AS332C1 helicopters from the Applicability paragraph and changed Eurocopter France to Airbus Helicopters. These changes are consistent with the intent of the proposals in the NPRM (78 FR 40072, July 3, 2013) and will not increase the economic burden on any operator nor increase the scope of the AD.

Differences Between This AD and the EASA AD

The EASA AD requires limiting the use of the 3-ton sling, inspecting the longitudinal beams Y350 for loose or missing rivets, black marks around the rivets, and cracks, and, depending on the accumulated sling operation cycles, replacing the rivets within a period of up to 24 months. This AD does not require the inspections as it would require replacing the rivets within 10 hours time-in-service, regardless of accumulated sling operation cycles. The EASA AD applies to Model AS332C1 helicopters, and this AD does not because that model is not type certificated in the United States.

Related Service Information

We reviewed Eurocopter Emergency Alert Service Bulletin No. 01.00.81 Revision 0, dated March 19, 2012 (EASB 01.00.81) for Model AS332 helicopters. The EASB describes procedures for temporarily prohibiting sling operations or limiting the use of the 3-ton sling to 2.28 tons until the 3.2 mm diameter rivets are replaced with 4.8 mm diameter rivets.

We have subsequently reviewed Eurocopter EASB 01.00.81 Revision 1, dated July 6, 2012 (EASB 01.00.81 Revision 1). EASB 01.00.81 Revision 1 deletes from the applicability of the EASB helicopters with Modification (MOD) 07 26082 installed. MOD 07 26082 provides for installation of the correct 4.8 mm diameter rivets on Eurocopter's production line.

Costs of Compliance

We estimate that this AD will affect 1 helicopter of U.S. Registry. We estimate that operators will incur the following costs in order to comply with this AD. Modifying the longitudinal beams Y350 with 4.8 mm rivets requires about 24 work-hours at an average labor rate of $85 per hour and required parts cost about $110, for a total cost per helicopter of $2,150. Thus, the total cost to U.S. operators to comply with this AD is about $2,150.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-08 Airbus Helicopters (Type Certificate Previously Held by Eurocopter France): Amendment 39-17781; Docket No. FAA-2013-0573; Directorate Identifier 2012-SW-042-AD.

(a) Applicability

This AD applies to Airbus Helicopters Model AS332L1 helicopters with the following serial numbers, certificated in any category: 2635, 2641, 2644, 9007, 9008, and 9009.

(b) Unsafe Condition

This AD defines the unsafe condition as non-conforming rivets installed on the left-hand (LH) and right-hand (RH) Y350 longitudinal beams (longitudinal beams Y350) of the bottom structure. This condition could result in failure of the web/flange assembly connections of the longitudinal beams Y350 and subsequent loss of control of the helicopter.

(c) Effective Date

This AD becomes effective April 15, 2014.

(d) Compliance

You are responsible for performing each action required by this AD within the specified compliance time unless it has already been accomplished prior to that time.

(e) Required Actions

Within 10 hours time-in-service, replace the 3.2 mm rivets, part-number (P/N) 21215DC3200J, of the RH and LH longitudinal beams Y350 of the bottom structure with 4.8 mm rivets, P/N 21215DC4800J, as shown in Figures 2 and 3 of Eurocopter Emergency Alert Service Bulletin No. 01.00.81, Revision 0, dated March 19, 2012.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) Emergency AD No. 2012-0046-E, dated March 21, 2012. You may view the EASA AD on the Internet at www.regulations.gov in Docket No. FAA-2013-0573.

(h) Subject

Joint Aircraft Service Component (JASC) Code: 5314: Fuselage Main, Keel.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 01.00.81, Revision 0, dated March 19, 2012.

Note 1 to paragraph (i)(2): Eurocopter Emergency Alert Service Bulletin No. 01.00.81, Revision 0, dated March 19, 2012, is co-published as one document along with Eurocopter Emergency Alert Service Bulletin No. 01.00.46, Revision 0, dated March 19, 2012, which is not incorporated by reference in this AD.

(ii) Reserved.

(3) For Eurocopter service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 26, 2014.
Bruce E. Cain,
Acting Directorate Manager, Rotorcraft Directorate, Aircraft Certification Service.

[FR Doc. 2014-04697 Filed 3-10-14; 8:45 am]

BILLING CODE 4910-13-P